DEPARTMENT OF HOMELAND SECURITY

Coast Guard

33 CFR Part 117

[Docket No. USCG-2012-1089]

Drawbridge Operation Regulation; Shark River, Avon, NJ

AGENCY: Coast Guard, DHS.

ACTION: Notice of deviation from drawbridge regulation.

SUMMARY: The Coast Guard has issued a temporary deviation from the operating schedule that governs the draws of two bridges which operate as one unit, specifically, the S71 bridge, mile 0.8 and the railroad bridge, mile 0.9 both of which are across the Shark River (South Channel), at Avon Township, NJ. This deviation is necessary to facilitate machinery replacement on the Shark River railroad bridge. This temporary deviation will allow the drawbridges, which operate in unison, to remain in the closed-to-navigation position on specific dates and times.

DATES: This deviation is effective from 12:01 a.m. February 25, 2013, until 12:01 a.m. on March 6, 2013.

ADDRESSES: The docket, USCG-2012-1089, for this temporary deviation is available online; go to http://www.regulations.gov, type the docket number in the “SEARCH” box and click “Search,” and then click on “Open Docket Folder” next to the item listing this notice of deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Renee V. Wright, Program Manager, Docket Operations, 202-366-9826.

SUPPLEMENTARY INFORMATION: The New Jersey Transit, owner and operator of the Shark River Railroad Bridge across the Shark River (South Channel), mile 0.9, at Avon, NJ, has requested a temporary deviation from the current operating regulations set out in 33 CFR 117.751, to accommodate machinery replacement for the Shark River Bridge.

The Shark River Railroad Bridge across the Shark River, mile 0.9, is a bascule lift Bridge, in Avon Township, NJ, and has a vertical clearance in the closed position of 8 feet, above mean high water.

Because the draw of the Shark River Bridge operates in unison with the S71 Bridge, mile 0.8 across Shark River at Avon Township, NJ, the draw of the S71 Bridge will also be restricted under this deviation. The S71 Bridge is also a bascule lift bridge and has a vertical clearance of 13 feet.

The current schedules for both the Shark River Railroad Bascule Bridge operating regulations are set out in 33 CFR 117.751. Under normal operating conditions, the draws of S71 bridge, mile 0.8 and the railroad bridge, mile 0.9, both at Avon, operate as one unit.

To facilitate machinery replacement, the above mentioned drawbridges will be maintained in the closed-to-navigation position from 12:01 a.m. Monday February 25, 2013, to 12:01 a.m. on Wednesday March 6, 2013. The bridges normally open several times a day for transiting vessels. Coordination with the waterway users has been completed.

The Coast Guard will inform all users of the waterway through our Local and Broadcast Notice to Mariners of the closure periods for the bridge so that vessels can arrange their transits to minimize any impacts caused by the temporary deviation. Vessels able to pass under the spans when closed may transit under the drawbridges while they are in the closed position. Mariners are advised to proceed with caution. There are no alternate routes for vessels and the bridge will not be able to open in the event of an emergency.

In accordance with 33 CFR 117.35(e), the drawbridge must return to its regular operating schedule immediately at the end of the effective period of this temporary deviation. This deviation from the operating regulations is authorized under 33 CFR 117.35.

Dated: January 3, 2013.
Waverly W. Gregory, Jr.,
Bridge Program Manager, Fifth Coast Guard District.

[FR Doc. 2013-00887 Filed 1-16-13; 8:45 am]

BILLING CODE 9110-04-P